DEPARTMENT OF COMMERCE

International Trade Administration

[A-570-979]

Crystalline Silicon Photovoltaic Cells, Whether or Not Assembled Into Modules, From the People's Republic of China: Final Results of Antidumping Duty Administrative Review and Final Determination of No Shipments; 2017-2018

AGENCY: Enforcement and Compliance, International Trade Administration, Department of Commerce.

SUMMARY: The Department of Commerce (Commerce) continues to find that manufacturers/exporters of crystalline silicon photovoltaic cells, whether or not assembled into modules (solar cells), from the People's Republic of China (China) sold solar cells in the United States at less than normal value during the period of review (POR) December 1, 2017 through November 30, 2018.

DATES: Applicable October 2, 2020.

FOR FURTHER INFORMATION CONTACT: Jeff Pedersen, AD/CVD Operations, Office IV, Enforcement and Compliance, International Trade Administration, U.S. Department of Commerce, 1401 Constitution Avenue NW, Washington, DC 20230; telephone: (202) 482-2769.

SUPPLEMENTARY INFORMATION:

Background

On February 10, 2020, Commerce published in the Federal Register the preliminary results of the 2017-2018 administrative review of the antidumping duty order on solar cells from the China.¹ For events subsequent to the Preliminary Results, see Commerce's Issues and Decision Memorandum.² The final weighted-average dumping margins are listed below in the “Final Results of Review” section of this notice.

¹ See Crystalline Silicon Photovoltaic Cells, Whether or Not Assembled Into Modules, from the People's Republic of China: Preliminary Results of Antidumping Duty Administrative Review and Preliminary Determination of No Shipments; 2017-2018, 85 FR 7531 (February 10, 2020) (Preliminary Results), and accompanying Preliminary Decision Memorandum.

² See Memorandum, “Issues and Decision Memorandum for the Final Results of the 2017-2018 Antidumping Duty Administrative Review of Crystalline Silicon Photovoltaic Cells, Whether or Not Assembled into Modules, From the People's Republic of China” (Issues and Decision Memorandum), dated concurrently with, and hereby adopted by, this notice.

On April 24, 2020, Commerce tolled all deadlines in administrative reviews by 50 days,³ thereby extending the deadline for these results until July 28, 2020. On July 21, 2020, Commerce tolled all for all preliminary and final results in administrative reviews by an additional 60 days,⁴ thereby extending the deadline for these final results until September 28, 2020.

³ See Memorandum, “Tolling of Deadlines for Antidumping and Countervailing Duty Administrative Reviews in Response to Operational Adjustments Due to COVID-19,” dated April, 24, 2020.

⁴ See Memorandum, “Tolling of Deadlines for Antidumping and Countervailing Duty Administrative Reviews,” dated July 21, 2020.

Scope of the Order

The merchandise covered by this order is crystalline silicon photovoltaic cells, and modules, laminates, and panels, consisting of crystalline silicon photovoltaic cells, whether or not partially or fully assembled into other products, including, but not limited to, modules, laminates, panels and building integrated materials.⁵ Merchandise covered by this order is currently classified in the Harmonized Tariff Schedule of the United States (HTSUS) under subheadings 8501.61.0000, 8507.20.80, 8541.40.6015, 8541.40.6020, 8541.40.6025, 8541.40.6030, 8541.40.6035, 8541.40.6045, and 8501.31.8000. Although these HTSUS subheadings are provided for convenience and customs purposes, the written description of the scope of this order is dispositive.

⁵ For a complete description of the scope of the order, see Issues and Decision Memorandum.

Analysis of Comments Received

All issues raised in the case and rebuttal briefs filed by parties in this review are addressed in the Issues and Decision Memorandum. A list of the issues that parties raised, and to which we responded in the Issues and Decision Memorandum, follows as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn/. The paper and electronic versions of the Issues and Decision Memorandum are identical in content.

Affiliation and Single Entity Determination

We preliminarily found that Risen Energy Co., Ltd. (Risen Energy); Risen Energy (Changzhou) Co., Ltd. (Changzhou); Risen (Wuhai) New Energy Co., Ltd. (Wuhai); Zhejiang Twinsel Electronic Technology Co., Ltd. (Twinsel); Risen (Luoyang) New Energy Co., Ltd. (Luoyang); Jiujiang Shengchao Xinye Technology Co., Ltd. (Jiujiang); Jiujiang Shengzhao Xinye Trade Co., Ltd. Ruichang Branch (Jiujiang Ruichang Branch); and Risen Energy (HongKong) Co., Ltd. (Hong Kong Risen) (collectively, Risen) are affiliated pursuant to section 771(33)(E) and (F) of the Tariff Act of 1930, as amended (the Act), and that all of these companies should be treated as a single entity pursuant to 19 CFR 351.401(f)(1)-(2). We also found that Trina Solar Co., Ltd. (formerly, Changzhou Trina Solar Energy Co., Ltd.) (TCZ); Trina Solar (Changzhou) Science and Technology Co., Ltd. (TST); Changzhou Trina Hezhong Photoelectric Co., Ltd. (THZ); Yancheng Trina Guoneng Photovoltaic Technology Co., Ltd (formerly, Yancheng Trina Solar Energy Technology Co., Ltd.) (TYC); Changzhou Trina Solar Yabang Energy Co., Ltd. (TYB); Turpan Trina Solar Energy Co., Ltd. (TLF); Hubei Trina Solar Energy Co., Ltd. (THB); and Trina Solar (Hefei) Science and Technology Co., Ltd. (THFT) (collectively Trina) are affiliated pursuant to sections 771(33)(E) of the Act and all of these companies should be treated as a single entity pursuant to 19 CFR 351.401(f)(1)-(2). No interested party commented on these treatments, and these findings remain unchanged for these final results.

Final Determination of No Shipments

In the Preliminarily Results, we found no evidence calling into question the no-shipment claims of the following companies: BYD (Shangluo) Industrial Co., Ltd.; LERRI Solar Technology Co., Ltd.; Ningbo ETDZ Holdings, Ltd.; Sumec Hardware & Tools Co., Ltd.; and Sunpreme Solar Technology (Jiaxing) Co., Ltd. No parties commented on this preliminary decision. For the final results of review, we continue to find that these companies had no shipments of subject merchandise to the United States during the POR.

Changes Since the Preliminary Results

Based on a review of the record and comments received from interested parties regarding our Preliminary Results, and for the reasons explained in the Issues and Decision Memorandum, we made revisions to our preliminary calculations of the weighted-average dumping margins for the mandatory respondents, Risen and Trina, which also resulted in a revision of the dumping margin for the separate rate respondents.

Separate Rates

In the Preliminary Results, we found that evidence provided by Trina, Risen, and 16 other companies/company groups supported finding an absence of both de jure and de facto government control, and, therefore, we preliminarily granted a separate rate to each of these companies/company groups. We received no comments since the issuance of the Preliminary Results regarding our determination that these 18 companies/company groups are eligible for a separate rate. Therefore, for the final results, we find that 18 entities are eligible for separate rates. Commerce assigned a dumping margin to the separate rate companies that it did not individually examine, but which demonstrated their eligibility for a separate rate, based on the mandatory respondents' dumping margins.

Final Results of Review

We are assigning the following dumping margins to the firms listed below for the period December 1, 2017 through November 30, 2018:

Producers/exporters | Weighted- average dumping margin (percent)
Trina Solar Co., Ltd./Trina Solar (Changzhou) Science and Technology Co., Ltd./Yancheng Trina Guoneng Photovoltaic Technology Co., Ltd./Changzhou Trina Solar Yabang Energy Co., Ltd./Turpan Trina Solar Energy Co., Ltd./Hubei Trina Solar Energy Co., Ltd./Trina Solar (Hefei) Science and Technology Co., Ltd./Changzhou Trina Hezhong Photoelectric Co., Ltd | 50.33
Risen Energy Co. Ltd./Risen (Wuhai) New Energy Co., Ltd./Zhejiang Twinsel Electronic Technology Co., Ltd./Risen (Luoyang) New Energy Co., Ltd./Jiujiang Shengchao Xinye Technology Co., Ltd./Jiujiang Shengzhao Xinye Trade Co., Ltd./Ruichang Branch, Risen Energy (HongKong) Co., Ltd | 106.39
Review-Specific Average Rate Applicable to the Following Companies ⁶
Anji DaSol Solar Energy Science & Technology Co., Ltd | 68.93
Canadian Solar International Limited/Canadian Solar Manufacturing (Changshu), Inc./Canadian Solar Manufacturing (Luoyang) Inc./CSI Cells Co., Ltd./CSI-GCL Solar Manufacturing (YanCheng) Co., Ltd./CSI Solar Power (China) Inc. (Canadian Solar) | 68.93
JA Solar Technology Yangzhou Co., Ltd | 68.93
Jiawei Solarchina Co., Ltd | 68.93
JingAo Solar Co., Ltd | 68.93
Jinko Solar Co., Ltd. (Jinko) | 68.93
Jinko Solar Import and Export Co., Ltd. (Jinko I&E) | 68.93
Jinko Solar International Limited (Jinko Int'l) | 68.93
Shanghai BYD Co., Ltd | 68.93
Shanghai JA Solar Technology Co., Ltd | 68.93
Shenzhen Portable Electronic Technology Co., Ltd | 68.93
Shenzhen Sungold Solar Co., Ltd | 68.93
Wuxi Tianran Photovoltaic Co., Ltd | 68.93
Yingli Energy (China) Company Limited/Baoding Tianwei Yingli New Energy Resources Co., Ltd./Tianjin Yingli New Energy Resources Co., Ltd./Hengshui Yingli New Energy Resources Co., Ltd./Lixian Yingli New Energy Resources Co., Ltd./Baoding Jiasheng Photovoltaic Technology Co., Ltd./Beijing Tianneng Yingli New Energy Resources Co., Ltd./Hainan Yingli New Energy Resources Co., Ltd./Shenzhen Yingli New Energy Resources Co., Ltd | 68.93
Zhejiang Jinko Solar Co., Ltd | 68.93
Zhejiang Sunflower Light Energy Science & Technology Limited Liability Company | 68.93

Commerce's policy regarding conditional review of the China-wide entity applies to this administrative review.⁷ Under this policy, the China-wide entity will not be under review unless a party specifically requests, or Commerce self-initiates, a review of the entity. Because no party requested a review of the China-wide entity, and we did not self-initiate a review of the entity, the entity is not under review, and the entity's dumping margin (i.e., 238.95 percent) is not subject to change as a result of this review.⁸

⁶ This rate is based on the rates for the respondents that were selected for individual review, excluding rates that are zero, de minimis, or based entirely on facts available. See section 735(c)(5)(A) of the Act. See Memorandum, “Final Results of the Antidumping Duty Administrative Review of Crystalline Silicon Photovoltaic Cells, Whether or Not Assembled into Modules, from the People's Republic of China: Calculation of the Cash Deposit Rate for Non-Reviewed Companies,” dated concurrently with this notice.

⁷ See Antidumping Proceedings: Announcement of Change in Department Practice for Respondent Selection in Antidumping Duty Proceedings and Conditional Review of the Nonmarket Economy Entity in NME Antidumping Duty Proceedings, 78 FR 65963, 65969-70 (November 4, 2013).

⁸ See Crystalline Silicon Photovoltaic Cells, Whether or Not Assembled Into Modules, from the People's Republic of China: Final Results of Antidumping Duty Administrative Review and Final Determination of No Shipments; 2015-2016, 83 FR 35616 (July 27, 2018).

Assessment

We will determine, and U.S. Customs and Border Protection (CBP) shall assess, antidumping duties on all appropriate entries covered by this review. We intend to issue assessment instructions to CBP 15 days after the publication date of these final results of review. In accordance with 19 CFR 351.212(b)(1), we are calculating importer- or customer-specific assessment rates for the merchandise subject to this review. For any individually examined respondent whose weighted-average dumping margin is above de minimis (i.e., 0.50 percent), we will calculate importer- or customer-specific assessment rates for merchandise subject to this review. Where the respondent reported reliable entered values, we calculated importer- or customer-specific ad valorem rates by aggregating the dumping margins calculated for all U.S. sales to the importer or customer and dividing this amount by the total entered value of the sales to the importer or customer.⁹ Where we calculated an importer- or customer-specific weighted-average dumping margin by dividing the total amount of dumping for reviewed sales to the importer or customer by the total sales quantity associated with those transactions, we will direct CBP to assess importer- or customer-specific assessment rates based on the resulting per-unit rates.¹⁰ Where an importer- or customer- specific ad valorem or per-unit rate is greater than de minimis, we will instruct CBP to collect the appropriate duties at the time of liquidation. Where either the respondent's weighted average dumping margin is zero or de minimis, or an importer or customer-specific ad valorem or per-unit rate is zero or de minimis, we will instruct CBP to liquidate appropriate entries without regard to antidumping duties.¹¹

⁹ See 19 CFR 351.212(b)(1).

¹⁰ Id.

¹¹ See Antidumping Proceedings: Calculation of the Weighted-Average Dumping Margin and Assessment Rate in Certain Antidumping Duty Proceedings; Final Modification, 77 FR 8101, 8103 (February 14, 2012).

For merchandise whose sale/entry was not reported in the U.S. sales database submitted by an exporter individually examined during this review, but that entered under the case number of that exporter (i.e., at the individually-examined exporter's cash deposit rate), we will instruct CBP to liquidate such entries at the China-wide rate. Additionally, if we determine that an exporter under review had no shipments of the subject merchandise, any suspended entries that entered under that exporter's case number will be liquidated at the China-wide rate.¹²

¹² See Non-Market Economy Antidumping Proceedings: Assessment of Antidumping Duties, 76 FR 65694 (October 24, 2011), for a full discussion of this practice.

Cash Deposit Requirements

The following cash deposit requirements will be effective upon publication of the final results of this administrative review for shipments of the subject merchandise from China entered, or withdrawn from warehouse, for consumption on or after the publication date of this notice in the Federal Register, as provided by section 751(a)(2)(C) of the Act: (1) For the exporters listed in the table in the “Final Results of Review” section above, the cash deposit rate will be the rate listed for each exporter in the table, except if the rate is zero or de minimis (i.e., less than 0.5 percent), then the cash deposit rate will be zero; (2) for previously investigated Chinese and non-Chinese exporters that received a separate rate in a prior segment of this proceeding, the cash deposit rate will continue to be the existing exporter-specific rate; (3) for all Chinese exporters of subject merchandise that have not been found to be entitled to a separate rate, the cash deposit rate will be the rate previously established for the China-wide entity (i.e., 238.95 percent); and (4) for all non-China exporters of subject merchandise which have not received their own rate, the cash deposit rate will be the rate applicable to the Chinese exporter that supplied the non-Chinese exporter. These deposit requirements, when imposed, shall remain in effect until further notice.

Disclosure

We intend to disclose the calculations performed for these final results within five days of publication of this notice in the Federal Register in accordance with 19 CFR 351.224(b).

Notification to Importers

This notice also serves as a reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Administrative Protective Orders

This notice also serves as a reminder to parties subject to administrative protective order (APO) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

Notification to Interested Parties

This determination is issued and published in accordance with sections 751(a)(1) and 777(i)(1) of the Act and 19 CFR 351.221(b)(5).

Dated: September 28, 2020.
Jeffrey I. Kessler,
Assistant Secretary for Enforcement and Compliance.

Appendix

Issues and Decision Memorandum

I. Summary

II. Background

III. Scope of the Order

IV. Discussion of the Issues

Comment 1. Unreported Factors of Production for Purchased Solar Cells and Modules

Comment 2. The Appropriate Surrogate Value for Silver Paste

Comment 3. The Appropriate Surrogate Value for Solar Glass

Comment 4. The Appropriate Surrogate Country

Comment 5. The Appropriate Surrogate Value for Ocean Freight

Comment 6. Selection of Surrogate Financial Statements

Comment 7. The Appropriate Surrogate Value for Aluminum Frames

Comment 8. The Appropriate Surrogate Value for Junction Boxes

Comment 9. The Appropriate Surrogate Value for Backsheet

Comment 10. The Appropriate Surrogate Value for Ethylene Vinyl Acetate (EVA) Sheet

Comment 11. Adjusting the Surrogate Financial Ratio Calculations

Comment 12. Error in Calculating Market Economy Purchase Prices

Comment 13. Error in Calculating the International Freight Surrogate Value

Comment 14. Error in Calculating the Domestic Brokerage and Handling Surrogate Value

Comment 15. Failure to Adjust the U.S. Price for Subsidies

V. Recommendation

[FR Doc. 2020-21823 Filed 10-1-20; 8:45 am]

BILLING CODE 3510-DS-P